DEPARTMENT OF ENERGY

Federal Energy Regulatory Commission

[Docket No. EG01-198-000, et al.]

Ameren Energy Generating Company, et al.; Electric Rate and Corporate Regulation Filings

April 26, 2001.

Take notice that the following filings have been made with the Commission:

1. Ameren Energy Generating Company

[Docket No. EG01-198-000]

Take notice that on April 20, 2001, Ameren Energy Generating Company (AEG), One Ameren Plaza, 1901 Chouteau Plaza, P.O. Box 66149, St. Louis, Missouri, 63166-6149, filed with the Federal Energy Regulatory Commission an application for determination of continuing exempt wholesale generator status pursuant to Part 365 of the Commission's Regulations.

AEG states that effective as April 10, 2001, it acquired the Kinmundy Unit No. 1, a 115 MW dual fuel (oil and natural gas) combustion turbine generator located at Kinmundy, Illinois. AEG states that all of the electric energy from the facility is and will be sold at wholesale.

Comment date: May 17, 2001, in accordance with Standard Paragraph E at the end of this notice. The Commission will limit its consideration of comments to those that concern the adequacy or accuracy of the application.

2. Citizens Communications Company

[Docket No. ER00-3211-003, OA01-5-000]

Take notice that on April 16, 2001, in compliance with the Commission's March 16, 2001 order in this proceeding, Citizens Communications Company (Citizens) tendered for filing revised and original tariff sheets which provide updated standards of conduct governing Citizens' Vermont Electric Division (VED). Citizens also filed a revised VED organization chart and job descriptions. Citizens made several changes to reflect updates to the standards of conduct, organization chart, and job descriptions.

A copy of this filing has been served on the service list in this docket, and on each of Citizens' wholesale customers, as identified in the Certificate of Service attached to the filing. In addition, a copy is available for inspection at the offices of Citizens' VED during regular business hours.

Comment date: May 16, 2001, in accordance with Standard Paragraph E at the end of this notice.

3. MidAmerican Energy Company

[Docket No. ER01-985-002]

Take notice that on April 23, 2001, MidAmerican Energy Company (MidAmerican), 401 Douglas Street, P.O. Box 778, Sioux City, Iowa 51102, tendered for filing Order 614 a Network Integration Transmission Service Agreement and Network Operating Agreement, designated as Substitute 1st Revised Service Agreement No. 53, entered into by MidAmerican and the City of Sergeant Bluff, Iowa, dated December 29, 2000. The Agreement replaces the Network Integration Transmission Service Agreement and Network Operating Agreement dated April 7, 1997, between the parties.

MidAmerican requests an effective date of January 1, 2001 for the Agreement and seeks a waiver of the Commission's notice requirement. MidAmerican has served a copy of the filing on the Iowa Utilities Board and the City of Sergeant Bluff, Iowa.

Comment date: May 14, 2001, in accordance with Standard Paragraph E at the end of this notice.

4. Canal Electric Company

[Docket No. ER01-1134-001]

Take notice that on April 23, 2001, Canal Electric Company (Canal) tendered for filing the Amended and Restated Seventh Amendment to the Power Contract between Canal and its retail affiliates Cambridge Electric Light Company and Commonwealth Electric Company (Canal Rate Schedule FERC No. 33, the Seabrook Power Contract). The Amended and Restated Seventh Amendment complies with the Federal Energy Regulatory Commission's Order Accepting for Filing and Suspending Amendment, dated March 29, 2001, which accepted, subject to refund, Canal's filing for effectiveness as of April 1, 2001, and required Canal to revise the Amendment's schedule of annual decommissioning expenses to reflect Canal's current obligation as determined by the New Hampshire Nuclear Decommissioning Financing Committee.

Comment date: May 14, 2001, in accordance with Standard Paragraph E at the end of this notice.

5. Consumers Energy Company

[Docket No. ER01-1285-001]

Take notice that on April 23, 2001 Consumers Energy Company (Consumers) tendered for filing a First Revised Service Agreement No. 52 designated as required by Section 35.9 of the Commission's rules, as directed by the Commission in its April 6, 2001 Order in this docket.

The Service Agreement's effective date is February 5, 2001. Copies of the filing were served upon those on the service list in this proceeding and upon the Customer.

Comment date: May 14, 2001, in accordance with Standard Paragraph E at the end of this notice.

6. New York Independent System Operator, Inc.

[Docket Nos. ER01-1740-001]

Take notice that on April 13, 2001, the New York Independent System Operator, Inc. (NYISO) tendered for filing revisions to its Market Administration and Control Area Services Tariff (Services Tariff) in order to correct improperly numbered sheets in its April 5, 2001 filing in the above-captioned docket. The NYISO has requested an effective date of May 1, 2001 for the filing.

The NYISO has served a copy of this filing upon parties on the official service lists maintained by the Commission for the above-captioned dockets.

Comment date: May 10, 2001, in accordance with Standard Paragraph E at the end of this notice.

7. Arizona Public Service Company

[Docket No. ER01-1841-000]

Take notice that on April 23, 2001, Arizona Public Service Company (APS) tendered for filing Service Agreements to provide Long-Term Firm Point-to-Point Transmission Service to Arizona Electric Power Cooperative under APS’ Open Access Transmission Tariff.

A copy of this filing has been served Arizona Electric Power Cooperative, and the

Comment date: May 14, 2001, in accordance with Standard Paragraph E at the end of this notice.

8. Northern Indiana Public Service Company

[Docket No. ER01-1838-000]

Take notice that on April 20, 2001, Northern Indiana Public Service Company tendered for filing an executed Standard Transmission Service Agreement for Non-Firm Point-to-Point Transmission Service between Northern Indiana Public Service Company and Energy USA-TPC Corp. (Energy USA).

Under the Transmission Service Agreement, Northern Indiana Public Service Company will provide Non-Firm Point-to-Point Transmission Service to Energy USA pursuant to the Transmission Service Tariff filed by Northern Indiana Public Service Company in Docket No. OA96-47-000 and allowed to become effective by the Commission. Northern Indiana Public Service Company has requested that the Service Agreement be allowed to become effective as of April 21, 2001.

Copies of this filing have been sent to Energy USA, the Indiana Utility Regulatory Commission, and the Indiana Office of Utility Consumer Counselor.

Comment date: May 11, 2001, in accordance with Standard Paragraph E at the end of this notice.

9. Florida Power & Light Company

[Docket No. ER01-1840-000]

Take notice that on April 23, 2001, Florida Power & Light Company (FPL) tendered for filing a Service Agreement with Cargill-Alliant, LLC for service pursuant to Tariff No. 1 for Sales of Power and Energy by Florida Power & Light and a Service Agreement with Calpine Energy Service, L.P. for service pursuant to FPL's Market Based Rates Tariff. FPL requests that the Service Agreements be made effective on April 13, 2001.

Comment date: May 14, 2001, in accordance with Standard Paragraph E at the end of this notice.

10. Illinois Power Company

[Docket No. ER01-1842-000]

Take notice that on April 23, 2001, Illinois Power Company (Illinois Power), 500 South 27th Street, Decatur, Illinois 65251-2200, tendered for filing the First Revised Amendment to Service Agreement for Network Integration Transmission Service entered into with MidAmerican Energy Company pursuant to Illinois Power's Open Access Transmission Tariff. Illinois Power requests an effective date of March 13, 2001 for the First Amendment and accordingly seeks a waiver of the Commission's notice requirement. Illinois Power states that a copy of this filing has been sent to MidAmerican Energy Company.

Comment date: May 14, 2001, in accordance with Standard Paragraph E at the end of this notice.

11. Illinois Power Company

[Docket No. ER01-1843-000]

Take notice that on April 23, 2001, Illinois Power Company (Illinois Power), 500 South 27th Street, Decatur, Illinois 65251-2200, tendered for filing a Firm Long Term Point to Point Transmission Service Agreement entered into with Entergy Power Marketing Corporation pursuant to Illinois Power's Open Access Transmission Tariff. Illinois Power requests an effective date of April 1, 2001 for the Agreements. Illinois Power states that a copy of this filing has been sent to Entergy Power Marketing Corporation.

Comment date: May 14, 2001, in accordance with Standard Paragraph E at the end of this notice.

12. Black Hills Generation, Inc.

[Docket No. ER01-1844-000]

Take notice that on April 23, 2001, Black Hills Generation, Inc. (Black Hills) tendered for filing an application for an order authorizing Black Hills to make wholesale sales of electric power at market-based rates.

Comment date: May 14, 2001, in accordance with Standard Paragraph E at the end of this notice.

13. Public Service Company of New Mexico

[Docket No. ER01-1845-000]

Take notice that on April 23, 2001, Public Service Company of New Mexico (PNM) tendered for filing First Revised Sheets No. 90, 91, and 92 of PNM's Open Access Transmission Tariff (OATT) to incorporate a change to the pricing methodology for energy provided by PNM for Schedule 4—Energy Imbalance Service. PNM's filing is available for public inspection at its offices in Albuquerque, New Mexico.

Copies of the filing have been sent to all PNM Tariff customers, all entities that have pending interconnection requests with PNM and the New Mexico Public Regulation Commission.

Comment date: May 14, 2001, in accordance with Standard Paragraph E at the end of this notice.

14. Jersey Central Power & Light Company; Metropolitan Edison Company; Pennsylvania Electric Company

[Docket No. ER01-1846-000]

Take notice that on April 23, 2001, Jersey Central Power & Light Company, Metropolitan Edison Company and Pennsylvania Electric Company (d/b/a GPU Energy), tendered for filing an executed Service Agreement between GPU Energy and Duke Energy Trading & Marketing, L.L.C. (Duke Energy), dated April 18, 2001. This Service Agreement specifies that Duke Energy has agreed to the rates, terms and conditions of GPU Energy's Market-Based Sales Tariff (Sales Tariff) designated as FERC Electric Rate Schedule, Second Revised Volume No. 5.

The Sales Tariff allows GPU Energy and Duke Energy to enter into separately scheduled transactions under which GPU Energy will make available for sale, surplus capacity and/or energy.

GPU Energy requests a waiver of the Commission's notice requirements for good cause shown and an effective date of April 18, 2001 for the Service Agreement.

GPU Energy has served copies of the filing on regulatory agencies in New Jersey and Pennsylvania.

Comment date: May 14, 2001, in accordance with Standard Paragraph E at the end of this notice.

15. Allegheny Energy Supply Company, LLC

[Docket No. ER01-1847-000]

Take notice that on April 23, 2001, Allegheny Energy Supply Company, LLC (Allegheny Energy Supply) tendered for filing Service Agreement No. 121 to add one (1) new Customer to the Market Rate Tariff under which Allegheny Energy Supply offers generation services.

Allegheny Energy Supply requests a waiver of notice requirements for an effective date of March 23, 2001 for service to the California Department of Water Resources. Confidential treatment of this agreement, pursuant to 18 C.F.R. § 388.112, has been requested.

Comment date: May 14, 2001, in accordance with Standard Paragraph E at the end of this notice.

16. Michigan Electric Transmission Company

[Docket No. ER01-1848-000]

Take notice that on April 23, 2001, Michigan Electric Transmission Company (Michigan Transco) tendered for filing executed Service Agreements for Firm and Non-Firm Point-to-Point Transmission Service with Mirant Americas Energy Marketing, LP and CMS-MS&T Michigan, L.L.C. (Customers) pursuant to the Joint Open Access Transmission Service Tariff filed on February 22, 2001 by Michigan Transco and International Transmission Company (ITC). Michigan Transco is requesting an effective date of April 1, 2001.

Copies of the filed agreement were served upon the Michigan Public Service Commission, ITC and the Customer.

Comment date: May 14, 2001, in accordance with Standard Paragraph E at the end of this notice.

17. Michigan Electric Transmission Company

[Docket No. ER01-1849-000]

Take notice that on April 23, 2001, Michigan Electric Transmission Company (Michigan Transco) tendered for filing an executed Service Agreement for Network Transmission Service with Wolverine Power Marketing Cooperative (Customer) pursuant to the Joint Open Access Transmission Service Tariff filed on February 22, 2001 by Michigan Transco and International Transmission Company (ITC).

Michigan Transco is requesting an effective date of April 16, 2001. Customer is taking service under the Service Agreement in connection with Consumers Energy Company's (Consumers) Electric Customer Choice program.

Copies of the filed agreement were served upon the Michigan Public Service Commission, ITC, Consumers and the Customer.

Comment date: May 14, 2001, in accordance with Standard Paragraph E at the end of this notice.

18. Dayton Power and Light Company

[Docket No. ER01-1850-000]

Take notice that on April 23, 2001, The Dayton Power and Light Company, (DP&L), a wholly owned subsidiary of DPL Inc., tendered for filing its filing describing separation of its transmission and distribution facilities.

Comment date: May 14, 2001, in accordance with Standard Paragraph E at the end of this notice.

19. Central Maine Power Company

[Docket No. ER01-1851-000]

Please take notice that on April 23, 2001, Central Maine Power Company (CMP) tendered for filing the First Amendment to the Interconnection Agreement by and between CMP and Northeast Empire Limited Partnership #1, designated as FERC Rate Schedule No. 139 and Supplements 1-3 and 5-11.

Comment date: May 14, 2001, in accordance with Standard Paragraph E at the end of this notice.

20. Allegheny Energy Service Corporation on behalf of Allegheny Energy Supply Company, LLC

[Docket No. ER01-1852-000]

Take notice that on April 23, 2001, Allegheny Energy Service Corporation on behalf of Allegheny Energy Supply Company, LLC (Allegheny Energy Supply) tendered for filing Service Agreement No. 122 to add one (1) new Customer to the Market Rate Tariff under which Allegheny Energy Supply offers generation services. Allegheny Energy Supply requests a waiver of notice requirements for an effective date of April 2, 2001 for Idaho Power.

Copies of the filing have been provided to the Public Utilities Commission of Ohio, the Pennsylvania Public Utility Commission, the Maryland Public Service Commission, the Virginia State Corporation Commission, the West Virginia Public Service Commission, and all parties of record.

Comment date: May 14, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-11198 Filed 5-3-01; 8:45 am]

BILLING CODE 6717-01-P